DEPARTMENT OF AGRICULTURE

Submission for OMB Review; Comment Request

August 28, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 4, 2013 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Mangoes from the Philippines

OMB Control Number: 0579-0172

Summary of Collection: Under the Plant Protection Act (7 U.S.C. 7711-7714), the Secretary of Agriculture, either independently or in cooperation with the States, is authorized to carry out operations or measures to detect, eradicate, suppress, control, prevent, or retard the spread of plant pests new to the United States or not know to be widely distributed throughout the United States. The Animal and Plant Health Inspection Service (APHIS) regulations on fruits and vegetables allow the importation of mangoes from Guimaras Island in the Republic of the Philippines into the United States under certain conditions. The regulations require the use of box marking to indicate the origin of the fruit, phytosanitary certificate to confirmed that the fruit has been grown and treated in accordance with the regulations and a trust fund agreement between the Republic of the Philippines Department of Agriculture and APHIS to cover the Agency's participation in the treatment and inspection activities in the Philippines that are required for the importation of mangoes.

Need and Use of the Information: APHIS will collect information from a variety of individuals who are involved in growing, packing, handling, transporting and exporting plants and plant products. The information APHIS collects serves as the supporting documentation for issuing PPQ forms and documents required to authorize release of restricted products, and allow movement of regulated products. The information APHIS collects is vital to helping ensure that injurious plant diseases and insect pest are not imported and do not spread into or within the United States.

Description of Respondents: Business or other for-profit; farms; Federal Government

Number of Respondents: 1,827

Frequency of Responses: Reporting: On occasion

Total Burden Hours: 121

Animal and Plant Health Inspection Service

Title: Importation of Artificially Dwarfed Plants

OMB Control Number: 0579-0176

Summary of Collection: Under the Plant Protection Act (7 U.S.C. 7701-7772), the Secretary of Agriculture is authorized to prohibit or restrict the importation, entry or movement of plants and plant pests, to prevent the introduction of plant pests into the United States or their dissemination within the United States. The Plant Protection and Quarantine, a program within USDA's Animal and Plant Health Inspection Service (APHIS), enforce these regulations. APHIS requires artificially dwarfed plants that are imported into the United States to have been grown under certain conditions in greenhouses or screen houses within nurseries registered with the government of the country where the plants were grown.

Need and Use of the Information: APHIS will collect information from the phytosanitary certificate to state that the plants were: (1) Grown for at least 2 years in a nursery that is registered with the government of the country of export; (2) grown in pots containing only sterile growing media; (3) grown on benches at least 50 cm above the ground; and (4) inspected (along with the nursery itself) at least once each year by the plant protection service of the country of export. The collected information will enable PPQ to verify that the imported plants were grown under conditions that helped keep the plants free from infestation by certain longhorned beetles and other pests. APHIS also uses the information on this certificate to determine the pest condition of the shipment at the time of inspection in the foreign country. Without the information, all shipment would need to be inspected very thoroughly, thereby requiring considerably more time. This would slow the clearance of international shipments.

Description of Respondents: Business or other for-profit; Federal Government

Number of Respondents: 30

Frequency of Responses: Reporting; On occasion

Total Burden Hours: 38

Animal and Plant Health Inspection Service

Title: Importation of Plants for Planting

OMB Control Number: 0579-0279

Summary of Collection: Under the Plant Protection Act (7 U.S.C. 7701 et seq.), the Secretary of Agriculture is authorized to prohibit or restrict the importation, entry, exportation, or movement in interstate commerce of plant pests and other articles to prevent the introduction of plant pests into the United States or their dissemination within the United States. The Animal and Plant Health Inspection Service (APHIS) regulations contained in “Subpart-Plants for Planting,” §§ 319.37 through 319.37-14 (referred to as the regulations), restricts among other things, the importation of living plants, plant parts, and seeds for propagation.

Need and Use of the Information: APHIS requires that some plants or plant products be accompanied by either a phytosanitary inspection certificates with additional declaration statements, grower registration and agreements, and production site registration for the export program. APHIS uses the information on these certificates to determine the pest condition of the shipment at the time of inspection in the foreign country. This information is used as a guide to the intensity of the inspection that APHIS must conduct when the shipment arrives. Without this information, APHIS could not verify that the imported plants for planting do not present a significant risk of introducing plant pests into the United States.

Description of Respondents: Business or other for-profit; Federal government

Number of Respondents: 60

Frequency of Responses: Reporting: On occasion

Total Burden Hours: 559

Ruth Brown,
Departmental Information Collection Clearance Officer.

[FR Doc. 2013-21448 Filed 9-3-13; 8:45 am]

BILLING CODE 3410-34-P